DEPARTMENT OF THE INTERIOR

National Park Service

[NPS-WASO-NAGPRA-NPS0038206; PPWOCRADN0-PCU00RP14.R50000]

Notice of Inventory Completion: Western Washington University, Department of Anthropology, Bellingham, WA

AGENCY: National Park Service, Interior.

ACTION: Notice.

SUMMARY: In accordance with the Native American Graves Protection and Repatriation Act (NAGPRA), Western Washington University (WWU) has completed an inventory of human remains and associated funerary objects and has determined that there is a cultural affiliation between the human remains and associated funerary objects and Indian Tribes or Native Hawaiian organizations in this notice. The human remains and associated funerary objects were removed from 45-WH-29 in Whatcom County, WA.

DATES: Repatriation of the human remains and associated funerary objects in this notice may occur on or after July 31, 2024.

ADDRESSES: Dr. Judith Pine, Western Washington University, Department of Anthropology, Arntzen Hall 340, 516 High Street, Bellingham, WA 98225, telephone (360) 650-4783, email pinej@wwu.edu.

SUPPLEMENTARY INFORMATION: This notice is published as part of the National Park Service's administrative responsibilities under NAGPRA. The determinations in this notice are the sole responsibility of the WWU, and additional information on the determinations in this notice, including the results of consultation, can be found in its inventory or related records. The National Park Service is not responsible for the determinations in this notice.

Abstract of Information Available

Human remains representing, at minimum, two individuals were removed from Whatcom County, WA. Students from WWU worked at site 45-WH-29 under the direction of WWU professor Dr. Garland Grabert in the fall of 1970 and the spring of 1971. Initially focusing on an adjacent site 45-WH-11, additional fieldwork occurred at 45-WH-29 when human remains were observed eroding out of a nearby bluff. Notes indicate surface collection was conducted. A total of six associated funerary objects are present (three lots and three objects). The six associated funerary objects consist of one lot fire broken rock, one lot charcoal, one lot level bag with lithics and bone, one sandstone abrader, one bone point, and one barbed harpoon point.

A minimum of one individual was reported in the original NAGPRA Inventory in 1995; one subadult (estimated at 9-10 years (surface collected)). During the WWU 2018-2020 Repatriation and Rehousing Project, additional ancestral remains were found in the “faunal” bags from 1970-71, and three additional associated funerary objects were identified by Cultural Specialist, R. Tom. The newly identified remains likely represent one adult individual. The original NAGPRA Inventory represents a subadult, but the newly identified remains are those of an adult. Therefore, we are considering this to be an additional individual. No known individuals were identified. No hazardous chemicals are known to have been used to treat the human remains while in the custody of WWU.

Cultural Affiliation

Based on the information available and the results of consultation, cultural affiliation is clearly identified by the information available about the human remains and associated funerary objects described in this notice.

Determinations

The WWU has determined that:

• The human remains described in this notice represent the physical remains of two individuals of Native American ancestry.

• A total of six associated funerary objects are reasonably believed to have been placed with or near individual human remains at the time of death or later as part of the death rite or ceremony.

• There is a connection between the human remains and associated funerary objects described in this notice and the Lummi Tribe of the Lummi Reservation and the Nooksack Indian Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 31, 2024. If competing requests for repatriation are received, the WWU must determine the most appropriate requestor prior to repatriation. Requests for joint repatriation of the human remains and associated funerary objects are considered a single request and not competing requests. The WWU is responsible for sending a copy of this notice to the Indian Tribes and Native Hawaiian organizations identified in this notice.

Authority: Native American Graves Protection and Repatriation Act, 25 U.S.C. 3003, and the implementing regulations, 43 CFR 10.10.

Dated: June 24, 2024.
Melanie O'Brien,
Manager, National NAGPRA Program.

[FR Doc. 2024-14467 Filed 6-28-24; 8:45 am]

BILLING CODE 4312-52-P